DEPARTMENT OF TRANSPORTATION

Office of the Secretary

[Docket No. DOT-OST-2025-0963]

U.S. DOT Strategic Plan

ACTION: Notice of request for information (RFI).

SUMMARY: The Office of the Secretary of Transportation invites the public to provide input into the development of the U.S. Department of Transportation (DOT or Department) Strategic Plan for fiscal years (FY) 2026-2030.

DATES: Comments must be received within 30 days from posting of this notice. DOT will consider comments filed after this date to the extent practicable.

ADDRESSES: Written comments may be submitted electronically or via U.S. mail. Respondents are encouraged to submit comments electronically to ensure timely receipt. Please include your name, title, organization, postal address, telephone number, and email address.

• Electronic Submission: Go to http://www.regulations.gov. Search by using the docket number (provided above). Follow the instructions for submitting comments on the electronic docket site.

• Email: dotstrategicplanning@dot.gov. Please include the full body of your comments in the text of the electronic message and as an attachment.

• Mail: Docket Management Facility; U.S. Department of Transportation, 1200 New Jersey Avenue SE, Room PL-401, Washington, DC 20590-0001.

• Instructions: All submissions must include the agency name and docket numbers.

FOR FURTHER INFORMATION CONTACT: Juli Huynh, Director, Office of Policy Coordination and Development, Office of the Assistant Secretary for Transportation Policy, dotstrategicplanning@dot.gov.

SUPPLEMENTARY INFORMATION:

Background: The Government Performance and Results Act (GPRA) of 1993 (Pub. L. 103-62), as amended by the GPRA Modernization Act of 2010 (Pub. L. 111-352), requires that Federal agencies revise and update their strategic plan at the beginning of each new presidential term, and in doing so, solicit input from interested stakeholders. Further, the Foundations for Evidence-Based Policymaking Act of 2018 (Pub. L. 115-435) requires that each agency's strategic plan include an evidence-building plan that identifies and addresses policy questions, which the agency develops in consultation with stakeholders. The DOT's current and previous Strategic Plans can be accessed at https://www.transportation.gov/dot-strategic-plan.

Written Comments: DOT invites the public to provide comments to inform the development of the DOT Strategic Plan for FY 2026-2030. In particular, comments may respond to any or all of the following questions:

1. What strategies or priorities should the DOT adopt to improve the Nation's transportation systems?

2. How should DOT measure progress towards the priorities suggested in Question 1?

3. What emerging challenges or opportunities in transportation warrant additional DOT activities, investments, research, or analysis?

4. How can DOT best create value for its activities with stakeholders?

The Department anticipates that the final DOT Strategic Plan for FY 2026-2030 will be posted on the DOT website around February 2026.

Public Comment: DOT will consider input provided by the public in development of the DOT Strategic Plan.

Signed in Washington, DC.
Loren A. Smith, Jr.,
Deputy Assistant Secretary for Transportation Policy.

[FR Doc. 2025-15096 Filed 8-7-25; 8:45 am]

BILLING CODE 4910-9X-P